DEPARTMENT OF JUSTICE

Office of Juvenile Justice and Delinquency Prevention

[OJP(OJJDP)-1329]

Notice of Meeting of the Coalition of Juvenile Justice

AGENCY: Office of Justice Programs, Office of Juvenile Justice and Delinquency Prevention, Justice.

ACTION: Notice of meeting.

SUMMARY: The Office of Juvenile Justice and Delinquency Prevention is announcing the Fall Training Conference and Board of Directors' Meeting of the Coalition for Juvenile Justice.

DATES: The meeting dates are:

1. Thursday, November 8, 2001 from 10 a.m. until 6 p.m., central time,

2. Friday, November 9, 2001 from 8 a.m. until 5 p.m., central time,

3. Saturday, November 10, 2001 from 8 a.m. until 5 p.m., central time,

4. Sunday, November 11, 2001 from 8 a.m. until 5 p.m., central time,

ADDRESSES: All meetings will be held at the Sheraton Gunter Hotel, 205 East Houston Street, San Antonio, Texas 78205.

FOR FURTHER INFORMATION CONTACT: For information about attending this meeting, contact Freida Thomas, Grant Management Specialist, Office of Juvenile Justice and Delinquency Prevention, 810 7th Street, NW, Washington, DC 20531. Telephone: 202-307-5924 (This is not a toll-free number). Questions may also be submitted by fax (202-307-2819) or e-mail (Freida@ojp.usdoj.gov).

SUPPLEMENTARY INFORMATION: The Coalition of Juvenile Justice, established pursuant to Section 9 of the Federal Advisory Committee Act, 5 U.S.C. App. 2), is meeting to carry out its advisory functions under section 241(f)(2) (A, D, and E) of the Juvenile Justice and Delinquency Prevention Act of 1974, as amended, 42 U.S.C. 5601, et seq. The purpose of this meeting is to discuss and adopt recommendations from members regarding the committee's responsibility to advise the OJJDP Administrator, the President and the Congress about State perspectives on the operation of the OJJDP and Federal legislation pertaining to juvenile justice and delinquency prevention.

This meeting will be open to the public.

Terrence S. Donahue,
Acting Administrator, Office of Juvenile Justice and Delinquency Prevention.

[FR Doc. 01-23074 Filed 9-13-01; 8:45 am]

BILLING CODE 4410-18-P